SMALL BUSINESS ADMINISTRATION

[Disaster Declaration #20759 and #20760; FLORIDA Disaster Number FL-20015]

Presidential Declaration Amendment of a Major Disaster for the State of Florida

AGENCY: U.S. Small Business Administration.

ACTION: Amendment 2.

SUMMARY: This is an amendment of the Presidential declaration of a major disaster for the State of Florida (FEMA-4834-DR), dated October 11, 2024.

Incident: Hurricane Milton.

DATES: Issued on November 22, 2024.

Incident Period: October 5, 2024 through November 2, 2024.

Physical Loan Application Deadline Date: January 7, 2025.

Economic Injury (EIDL) Loan Application Deadline Date: July 11, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated October 11, 2024, is hereby amended to extend the deadline for filing applications for physical damages as a result of this disaster to January 7, 2025.

All other information in the original declaration remains unchanged.

(Catalog of Federal Domestic Assistance Number 59008)

Alejandro Contreras,
Acting Deputy Associate Administrator, Office of Disaster Recovery & Resilience.

[FR Doc. 2024-28281 Filed 12-2-24; 8:45 am]

BILLING CODE 8026-09-P